DEPARTMENT OF JUSTICE

Notice of Lodging of Consent Decree Under the Clean Water Act

Notice is hereby given that on December 31, 2008, a proposed consent decree (the “Decree”) in United States and State of Oregon v. Pacific Northern Environmental Corp., dba Dedicated Fuels, Inc., Civil Action No. 3:08-cv-01513-HU, was lodged with the United States District Court for the District of Oregon.

In this action the United States and State of Oregon sought civil penalties for Pacific Northern Environmental Corp.'s (“PNE”) violation of the Clean Water Act's spill prohibition. PNE owns and operates a heating oil business located in North Bend, Oregon, as well as several gas stations in the area. On July 8, 2006, a tanker truck owned and operated by Dedicated carrying several hundred barrels of diesel fuel overturned while traveling on Highway 38, near Milepost 17, just east of Scottsburg, Oregon. Approximately 197 barrels of diesel fuel spilled. Diesel fuel that did not ignite in the ensuing fire migrated to the Umpqua River. PNE's discharge to the Umpqua River violated the Clean Water Act and Oregon law. Under the consent decree, PNE will pay the United States and the State of Oregon civil penalties of $74,272 and $20,000, respectively. Additionally, PNE agrees to perform a supplemental environmental project (“SEP”), the cost of which shall be not less than $47,640.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States and State of Oregon v. Pacific Environmental Corp., dba Dedicated Fuels, Inc., Civil Action No. 3:08-cv-01513-HU, D.J. Ref. 90-5-1-1-09175.

The consent decree may be examined at the Office of the United States Attorney, Mark O. Hatfield U.S. Courthouse, 1000 SW. Third Avenue, Suite 600, Portland, OR, 97204, and at U.S. EPA Region 10, 1200 Sixth Avenue, Seattle, WA, 98101. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $5.75 (25 cents per page reproduction cost) payable to the U.S. Treasury or, if by e-mail or fax, forward a check in that amount to the Consent Decree Library at the stated address.

Robert E. Maher, Jr.,
Assistant Section Chief, Environmental Enforcement Section.

[FR Doc. E9-579 Filed 1-13-09; 8:45 am]

BILLING CODE 4410-15-P